DEPARTMENT OF AGRICULTURE

Forest Service

Klamath National Forest; California; Pumice Vegetation Management Project

AGENCY: Forest Service, USDA.

ACTION: Notice of intent to prepare an environmental impact statement.

SUMMARY: The Klamath National Forest will prepare an environmental impact statement (EIS) to document and publically disclose the environmental effects of implementing the Pumice Vegetation Management project. The project is being developed to address deteriorating forest health conditions, increasing hazardous fuel conditions, and reduced ecological diversity all caused by a century of fire exclusion, and past management activities.

DATES: Comments concerning the scope of analysis must be received by December 9, 2011. The draft environmental impact statement is expected June 2012, and the final environmental impact statement is expected October 2012.

ADDRESSES: Send written comments to: Patricia A. Grantham, Forest Supervisor, Attn: Ben Haupt, Pumice Vegetation Management Project Team Leader, Goosenest Ranger District, 37805 Highway 97, Macdoel, California 96058. Comments may also be sent via email to comments-pacificsouthwest-klamath@fs.fed.us, or via facsimile to (530) 398-5749. Include the subject “Pumice Scoping.” Email attachments are acceptable in the following formats: plain text (.txt), rich text (.rtf), Word (.doc or .docx), or portable document format (.pdf). Oral comments may be provided to the interdisciplinary team lead in person at the Goosenest Ranger District office or by phone: (530) 398-5790 during normal business hours, Monday through Friday, 8 a.m. to 4:30 p.m., except holidays.

FOR FURTHER INFORMATION CONTACT: Project documents can be found on the project Web site at http://www.fs.fed.us/nepa/fs-usda-pop.php/?project=30290. If you have questions, concerns, or suggestions regarding the proposal, contact Ben Haupt (phone: (530) 398-5790) at the Goosenest Ranger District, Klamath National Forest, 37805 Highway 97, Macdoel, California 96058.

Individuals who use telecommunication devices for the deaf (TDD) may call the Federal Information Relay Service (FIRS) at 1-(800) 877-8339 between 8 a.m. and 8 p.m., Eastern Time, Monday through Friday.

SUPPLEMENTARY INFORMATION: There are 6,473 acres of treatment proposed within the 9,056-acre project boundary on the Goosenest Ranger District of the Klamath National Forest. The project is located entirely within the Tamarack Flat 7th field watershed. The western extent of the project area is about eight miles east of Tennant, California in Siskiyou County; T43N, R1E, Sections 12 and 13; T43N, R2E, Sections 2-11, 14-21, 29 and 30; T44N, R2E, Sections 32 and 33, Mt. Diablo Meridian. About 247 acres of private land are located within the project boundary, but are excluded from the proposed treatments. Elevation ranges from 5,500-7,200 feet.

Purpose and Need for Action

The purpose of this project is to: restore fire as an ecosystem process; improve stand resilience to wildfire, insects and disease; reduce stand densities to productive and sustainable levels; maintain and encourage vegetation species diversity and stand structure; reduce the risk of undesired wildfire effects to important resources within the project area; and provide opportunities for public firewood cutting.

Proposed Action

The project includes eight overlapping types of treatment: (1) Thin From Below; (2) Thin From Below and Thin Chip; (3) Thin Chip; (4) Small Tree Thinning and Pile Burn; (5) Seed Tree and Small Tree Thinning; (6) Firewood; (7) Commercial Christmas Trees; and (8) Prescribed Fire. In addition to the above treatments, the proposed action includes the temporary access on 15.50 miles of temporary roads along existing road beds within the project. A total of 0.75 miles of new temporary roads will be constructed in order to implement the project. Both existing and new temporary roads will be closed and hydrologically stabilized at the end of the project. Acres by treatment type are described below and do not account for overlap in treatment types.

(1) Thin From Below (693 acres): Thin from below will be variable (140-220 ft²/ac Basal Area) removing trees greater than 10 inches diameter at breast height (DBH), leaving dominant and co-dominant trees that exhibit health and vigor in order to increase resiliency to fire, insects and disease. Ponderosa pine will be favored, which will increase the percentage of pine in the species composition. Stocking levels will be commensurate with site productivity and standard guidelines. To maintain stand diversity, no-treatment retention clumps varying from 15-25 percent of the stand will be left in each stand.

(2) Thin From Below and Thin Chip (1,973 acres): The goal of this treatment is to thin from below (140-220 ft²/ac Basal Area) and reduce stocking levels in the understory. This will increase species and structural diversity. Thin chip treatment will thin trees ranging between three and 10 inches DBH to a variable spacing of 15-25 feet. Treatment will focus on those areas with the most ladder fuels to reduce the risk of stand replacing wildfire. No-treatment (leave) clumps will vary from 15-25 percent depending upon stand conditions.

(3) Thin Chip (1,088 acres): Even-aged early seral stands will be variably thinned removing trees ranging between three and 10 inches DBH. Reducing stand densities will improve tree vigor, increase species and structural diversity, and reduce the risk of stand replacing wildfire. No-treatment clumps will vary from 15-40 percent depending upon stand conditions.

(4) Small Tree Thinning and Pile Burn (128 acres): Treatment will be applied to previously harvested stands that have dense tree regeneration. Trees ranging between three to 10 inches DBH will be variably thinned to a spacing of 15-25 feet. Trees will be cut by hand or low ground pressure machinery. Trees will then be piled and burned or chipped and removed.

(5) Seed Tree and Small Tree Thinning (245 acres): These lodgepole pine stands were previously harvested with strip clear cuts. Treatment within the retention strips from previous harvest will remove trees greater than 10 inches DBH, and leave one to five healthy dominant trees per acre to serve as a seed source. Trees ranging between three and 10 inches DBH will be thinned to a variable spacing of 15-25 feet in previously harvested strips.

(6) Firewood (206 acres): Firewood cutting will be made available to the public for permitted firewood cutting. Dead lodgepole trees, which were created by western and mountain pine beetle mortality within several lodgepole stands, will be removed by permit only. Standing dead and down trees will be cut by hand. All limbs and debris will be scattered to a depth of no greater than 18 inches; individual pieces will not exceed four feet in length. Trees and limbs will be utilized down to three inches in diameter.

(7) Commercial Christmas Trees (94 acres): Shasta red and white fir trees less than eight inches DBH will be harvested. Leave trees will be retained at a maximum of 16 feet to meet 16 by 16 foot spacing for the stand. Leave trees are defined as trees at least four feet tall and four inches DBH. Trees will be harvested with chainsaws and removed to existing skid trails and roads for removal by hand or ATV. Trees will be cut below the lowest living branch, with a maximum stump height of approximately 10 inches. All activity-generated slash will be treated so the residual slash on the ground is no higher than 18 inches and not more than four feet long. Approximately 1,000 pounds of boughs (or stems) may be cut by hand with pruning shears and/or chainsaws. Sheared trees will have a maximum harvest of one-third the diameter of the bottom half of the tree cut for boughs. Boughs may not be longer than 24 inches in length. Trees for bough harvest may not be the dominant or co-dominant leave trees. Cut boughs will be removed to vehicles parked on existing skid trails or roads.

(8) Prescribed Fire (6,473 acres): Prescribed fire will be used in varying intensities (mosaic pattern of burned and unburned patches) either as a stand-alone treatment, or following mechanical treatments. Pre-treatment such as hand piling of ladder and activity fuels will ensure that the residual stand is protected. Piles will be burned within two years of their construction. Prescribed fire will be used under controlled situations and favorable weather conditions. The objectives are to reduce natural fuel loads, surface and ladder fuels, and past activity slash, while increasing herbaceous species and encouraging pine regeneration. Due to feasibility considerations, prescribed fire treatments will not take place all at once, but incrementally throughout the life of the project. Prior to implementation of prescribed fire, detailed burn plans will be prepared for all prescribed fire activities.

Road access: The proposed action includes the temporary access along 15.50 miles of temporary roads along existing road beds within the project area. A total of 0.75 miles of new temporary roads will be constructed in order to implement the project. All roads needed for treatment access will be cleared and graded as necessary to allow log truck and equipment access using minimum disturbance methods and minimum clearing widths. New temporary roads constructed for this project will be graded, out-sloped, covered with slash if needed, and blocked with natural barriers after the harvest season (prior to the first winter use). All temporary roads will be closed and hydrologically stabilized at the end of the project. No new roads will be added to the National Forest System.

The Forest Service developed project design features to mitigate adverse environmental impacts of the proposed action to forest resources. To view project design features, maps, and additional information about this project please visit the following Web site: http://www.fs.fed.us/nepa/fs-usda-pop.php/?project=30290.

Responsible Official

The Responsible Official for this project is the Forest Supervisor for the Klamath National Forest, Patricia A. Grantham, 1312 Fairlane Road, Yreka, California 96097.

Nature of Decision To Be Made

The Forest Service is the lead agency for the project. Based on the result of the NEPA analysis, the Forest Supervisor's record of decision regarding the Pumice Vegetation Management Project will recommend implementation of one of the following: (1) The proposed action; (2) an alternative to the proposed action; or (3) the no-action alternative. The record of decision will also document the consistency of the selected alternative with the Klamath National Forest Land and Resource Management Plan (1995, as amended).

Scoping Process

This notice of intent initiates the scoping process, which guides the development of the EIS. To be considered for EIS development, comments should be submitted prior to the close of this comment period. To be most helpful to the agency for alternative development and effects analysis, comments should be as specific as possible and discuss potentially significant issues, points of discussion, dispute, or debate about the effects of the proposed action.

Comments received in response to this solicitation, including names and addresses of those who comment, will be part of the public project record. Comments submitted anonymously will be accepted and considered; however, anonymous comments will not provide the agency with the ability to provide the respondent with subsequent environmental documents. See the ADDRESSES section at the beginning of this notice for more information about how and when to submit comments.

Dated: November 1, 2011.
Patricia A. Grantham,
Forest Supervisor, Klamath National Forest.

[FR Doc. 2011-29046 Filed 11-8-11; 8:45 am]

BILLING CODE 3410-11-P